SECURITIES AND EXCHANGE COMMISSION

Submission for OMB Review; Comment Request

Upon Written Request, Copies Available From: Securities and Exchange Commission, Office of Filings and Information Services, Washington, DC 20549.

Extension:

Rule 19b-7 and Form 19b-7, SEC File No. 270-495, OMB Control No. 3235-0553.

Notice is hereby given that pursuant to the Paperwork Reduction Act of 1995,¹ the Securities and Exchange Commission (“Commission”) has submitted to the Office of Management and Budget (“OMB”) a request for extension of the previously approved collection of information discussed below.

¹ 44 U.S.C. 3501 et seq.

Rule 19b-7 (Security Futures Product Rule Changes) requires every self-regulatory organization that is an exchange registered with the Commission pursuant to Section 6(g) ² or that is a national securities association registered pursuant to Section 15A(k) ³ to file with the Commission, in accordance with such rules as the Commission may prescribe, copies of any proposed rule change or any proposed change, in addition to, or deletion from the rules of such self-regulatory organization (“proposed rule change”) that relates to higher margin levels, fraud or manipulation, recordkeeping, reporting, listing standards, or decimal pricing for security futures products, sales practices for security futures products for persons who effect transactions in security futures products, or rules effectuating such self-regulatory organization's obligation to enforce the securities laws. The proposed rule change must be accompanied by a concise general statement of the basis and purpose of such proposed rule change. In addition, Rule 19b-7 requires the Commission to, upon the filing of any proposed rule change, promptly publish notice of any proposed rule filing together with the terms of substance of the proposed rule change or a description of the subjects and issues involved. The Commission is also required to give interested persons an opportunity to submit data, views, and arguments concerning the proposed rule change.

² 15 U.S.C. 78f(g).

³ 15 U.S.C. 78o-3(k).

The SEC estimates that the total burden for all respondents to the Form 19b-7 would be 1860 hours per year (15.5 hours/filing per respondent x 8 respondents x 15 filings/year per respondent). The SEC estimates that the total cost burden for all respondents would be $203,520 per year ($1696/filing x 8 respondents x 15 filings/year per respondent).

Rule 19b-7 does impose a retention period for any recordkeeping requirements. As set forth in Rule 17a-1 under the Exchange Act,⁴ a national securities exchange or national securities association is required to retain records of the collection of information for at least five years, the first two years in an easily accessible place. However, for purposes of the Commission's recordkeeping requirements, Security Futures Product Exchanges and Limited Purpose National Securities Associations must retain only those records relating to persons, accounts, agreements, contracts, and transactions involving security futures products.⁵ Compliance with the rule is mandatory and the information collected is made available to the public. Please note that an agency may not conduct or sponsor, and a person is not required to respond to, a collection of information unless it displays a currently valid control number.

⁴ 17 CFR 240.17a-1.

⁵ 15 U.S.C. 78q(b)(4)(B).

Written comments regarding the above information should be directed to the following persons: (a) Desk Officer for the Securities and Exchange Commission by sending an email to: David_Rostker@omb.eop.gov, and (b) R. Corey Booth, Director/Chief Information Officer, Office of Information Technology, Securities and Exchange Commission, 450 Fifth Street, NW., Washington, DC 20549. Comments must be submitted to the Office of Management and Budget within 30 days of this notice.

Dated: July 27, 2004.
Margaret H. McFarland,
Deputy Secretary.

[FR Doc. 04-18122 Filed 8-6-04; 8:45 am]

BILLING CODE 8010-01-U